FEDERAL COMMUNICATIONS COMMISSION

Privacy Act System of Records.

AGENCY: Federal Communications Commission.

ACTION: Notice; one new Privacy Act system of records; three deleted systems of records.

SUMMARY: The Federal Communication Commission (FCC or Commission, or the Agency) proposes to add one new, consolidated system of records, FCC/OMD-25, Financial Operations Information System (FOIS) to its inventory of records systems subject to the Privacy Act of 1974 (5 U.S.C. 552a) as amended. This action is necessary to meet the requirements of the Privacy Act to publish in the Federal Register notice of the existence and character of records maintained by the agency (5 U.S.C. 552a(e)(4)). FCC/OMD-25 will consolidate the three system of records, FCC/OMD-6, Financial Accounting Systems (FAS), FCC/OMD-9, Commission Registration System (CORES), and FCC/OMD-19, Denial of Federal Benefits (Drug Debarment List), and also add new and/or updated information that pertains to the mission and activities of the FCC's Financial Operations (FO) organization in the Office of Managing Director, which are associated with the Commission's financial and budgetary operations, programs, activities, and transactions, and the related telecommunications functions. Upon approval of FCC/OMD-25, the Commission will cancel FCC/OMD-6, FCC/OMD-9, and FCC/OMD-19.

DATES: Written comments are due on or before November 7, 2016. This action will become effective on November 15, 2016 unless comments are received that require a contrary determination.

ADDRESSES: Send comments to Leslie F. Smith, Privacy Analyst, Information Technology (IT), Room 1-C216, Federal Communications Commission (FCC), 445 12th Street SW., Washington, DC 20554, (202) 418-0217, or via the Internet at Leslie.Smith@fcc.gov.

FOR FURTHER INFORMATION CONTACT: Leslie F. Smith, (202) 418-0217, or Leslie.Smith@fcc.gov, and to obtain a copy of the Narrative Statement, which includes details of this proposed new system of records.

SUPPLEMENTARY INFORMATION: The FCC previously gave notice of the three systems of records, FCC/OMD-6, Financial Accounting Systems (FAS), FCC/OMD-9, Commission Registration System (CORES), and FCC/OMD-19, Denial of Federal Benefits (Drug Debarment List), which it intends to cancel upon approval of FCC/OMD-25, Financial Operations Information System (FOIS), by publication in the Federal Register on April 5, 2006 (71 FR 17234, 17250, 17253, and 17264 respectively). The Financial Operations Information System (FOIS) consolidates the three separate systems of records: FCC/OMD-6, Financial Accounting Systems (FAS),¹ FCC/OMD-9, Commission Registration System (CORES),² and FCC/OMD-19, Denial of Federal Benefits (Drug Debarment List),³ and extends coverage to all other related FO financial and budgetary information systems, subsystems, databases, records, and paper document files, which include but are not limited to Genesis, Fee Filer, Red Light Display System, Accounts Payable and Accounts Receivable, Research Reconciliation and Reporting, Budget Center, Electronic Form 159/Remittance Over Secure Internet E-Commerce (ROSIE) system, Pay Fees system, Commission Registration System (CORES), Historical Collections system, Historical Loans system, International Telecommunications Settlements invoicing systems, FO-Administration, system-to-system integrations, databases, and related FO documents and forms. This consolidation will create a single, organization-wide, and consistently-defined system of records that also provides various improvements, which include, but are not limited to, increased efficiency in the Commission's reporting capabilities and enhanced reliability and consistency in the Commission's financial and budgetary data and related management and oversight of these telecommunications programs, functions, and activities.

¹ FCC/OMD-6, Financial Accounting Systems (FAS), includes the Genesis, Fee Filer, Red Light Display System, Accounts Payable and Accounts Receivable, Research Reconciliation and Reporting, Budget Center, Electronic Form 159/Remittance Over Secure Internet E-Commerce (ROSIE) system, Pay Fees system, Historical Collections system, Historical Loans system, and International Telecommunications Settlements invoicing systems and all these data.

² FCC/OMD-9, Commission Registration System (CORES), includes only the Commission Registration System data.

³ FCC/OMD-19, Denial of Federal Benefits (Drug Debarment List), includes only the Drug Debarment List data.

FCC/OMD-25

SYSTEM NAME:

Financial Operations Information System (FOIS).

SECURITY CLASSIFICATION:

The FCC's CIO will develop a security classification to this system of records based on NIST FIPS-199 standards.

SYSTEM LOCATION:

Financial Operations (FO), Office of Managing Director (OMD), Federal Communications Commission (FCC), 445 12th Street SW., Washington, DC 20554.

CATEGORIES OF INDIVIDUALS COVERED BY THE SYSTEM:

The categories of individuals in FOIS include, but are not limited to:

1. FCC staff, including but not limited to employees (including interns), and contractors and vendors, who handle information in the FCC's financial and budgetary operations, which include but are not limited to the FO organization's programs, processes, activities, and related telecommunications functions;

2. Individuals who register with the FCC to receive a FCC Registration Number (FRN) to conduct business with the Commission; and

3. Individuals who intend to or do conduct business with the FCC as a regulatee, licensee, contractor, or vendor and who are listed on the Drug Debarment Roster (as a result of drug convictions for the distribution or possession of controlled substances) who have been denied all Federal benefits as part of their sentence pursuant to Section 5301 of the Anti-Drug Abuse Act of 1988, and who have filed application(s) for any FCC professional or commercial license(s) and/or authorization(s).

CATEGORIES OF RECORDS IN THE SYSTEM:

The categories of records in the Financial Operations Information System (FOIS) include, but are not limited to information pertaining to:

1. FCC employees (including interns)—individual's name, Social Security Number (SSN), home address, phone number, bank account data, and miscellaneous monies received by the Commission (including, but not limited to reimbursement(s) authorized under the Travel Reimbursement Program covered by the government-wide system of records GSA/GOVT-3 and GSA/GOVT-4,⁴ and related financial requirements);

⁴ The PII contained in the FCC's Travel and Reimbursement Program is covered by one or the other of the two government-wide systems of records maintained by the General Services Administration (GSA): GSA/GOV-3, “Travel Charge Card Program,” see 78 FR 20108; or GSA/GOVT-4, “Contracted Travel Services Program,” see 64 FR 20108.

2. Independent contractors—individual's name and Social Security Number (SSN) (required when the fee exceeds the minimum $600.00 threshold authorized by IRS Form 1099);

3. Individuals who register to do business with the FCC and receive a FCC Registration Number (FRN)—individual's name, address(es), Social Security Number (SSN), Individual Taxpayer Identification Number (ITIN), home telephone number(s), personal fax number(s), personal email address(es), records of services rendered, loan payment information, forfeitures assessed and collected, billing and collection of bad checks, bank deposit information, transaction type information, United States Treasury deposit data (notification of completion of FCC financial transactions with the US Treasury), and information substantiating fees collected, refunds issues, and interest, penalties, and administrative charges assessed to individuals.

4. Individuals on the DOJ's Drug Debarment List—individual's name, DOJ identification number (ID) (for the person denied Federal benefits), Individual Taxpayer Identification Number (ITIN), starting and ending date of the denial of Federal benefits, address, zip code, and (if required by the FCC application) birthdate, and confirmation report for DOJ matching; (Upon such a match, the FCC will initiate correspondence with the applicant, which will also be associated with the application. The confirmation report and any correspondence with the applicant will be among the records found in this system.); and

5. FCC Forms which include, but are not limited to, Forms 44 and 45; 159 series; 160 and 161; 1064, and other related financial and/or budgetary forms, assessments, and related documents.

AUTHORITY FOR MAINTENANCE OF THE SYSTEM:

5 U.S.C. Chapter 57; 31 U.S.C. 525, 3302(e); 44 U.S.C. 3101, 3102, 3309; Debt Collection Act as amended by the Debt Collection Improvement Act of 1996; Section 639 of the Consolidated Appropriations Act of 2005 (P.L. 108-447); Federal Financial Management Improvement Act of 1996; Chief Financial Officers Act of 1990; Federal Managers Financial Integrity Act of 1982; Executive Order 9397; Budget and Accounting Act of 1921; Budget and Accounting Procedures Act of 1950; and Federal Communications Authorization Act of 1989; Section 5301 of the Anti-Drug Abuse Act of 1988 (Pub. L. 100-690), as amended by Section 1002(d) of the Crime Control Act of 1990 (Pub. L. 100-647); and 47 U.S.C. 154(i) and 154(j).

PURPOSE(S):

The Financial Operations Information System (FOIS) SORN will cover the PII that is collected, used, and stored in the electronic records and paper document files contained in the FO organization's information systems, subsystems, databases, and paper document files,⁵ which are associated with the Commission's financial and budgetary operations, programs, functions, and transactions, and related telecommunications activities. These various systems include, but are not limited to Genesis, Fee Filer, Red Light Display System, Accounts Payable and Accounts Receivable, Research Reconciliation and Reporting, Budget Center, Electronic Form 159/Remittance Over Secure Internet E-Commerce (ROSIE) system, Pay Fees system, Commission Registration System (CORES), Historical Collections system, Historical Loans system, International Telecommunications Settlements invoicing systems, FO-Administration, system-to-system integrations, databases, and related FO documents and forms. Authorized FCC personnel (including authorized contract employees and sole proprietors) use these records on a need-to-know basis to conduct the Commission financial and budgetary operations, programs, transactions, and statements, and related telecommunications activities, which include but are not limited to:

⁵ The FCC's Financial Operations maintains the FCC's Registration Number (FRN) system, the Commission-wide method for identifying and interacting with those individuals who have registered to do business with the FCC under 31 U.S.C. 7701(c)(2) and who incur application and/or regulatory fee obligations. (The FRN collaterally allows that monies paid are properly matched with debts and obligations.)

1. Processing and tracking payments made and monies owed from or to individuals (including FCC employees and authorized contract employees and authorized sole proprietor contractors), FCC regulatees and licensees, and the FCC, and to ensure that payments by the FCC are based on a lawful official commitment and obligation of government funds, including but not limited to payments to cover administrative charges, penalties, forfeitures assessed, fees collected, services rendered, and direct loans;

2. Establishing records of “receivables” and tracking repayment status for any amount(s) claimed in the event of a debt owed to the FCC, which include but are not limited to repayment of overpayments and excess disbursements (including reimbursements and/or refunds for incorrect payments or overpayments), and other debts, advance payments, including but not limited to application processing fees, travel advances (including reimbursements authorized under the Travel Reimbursement Program covered by GSA/GOVT-3 and GSA/GOVT-4),⁶ advanced sick leave, and advanced annual leave, and withholding services from individuals who owe delinquent debt to the FCC or an FCC component, including billing and collection of bad checks;

⁶ Travel Reimbursement Program, Op. cit.

3. Developing reports of taxable income using the records of payments and uncollectible debts that are provided to the Internal Revenue Service (IRS) and applicable state and local taxing officials;

4. Tracking overdue and delinquent federal debts for debt collection purposes;

5. Initiating and completing computer matching to verify benefit and payment eligibility under relevant related Federal Government systems such as, but not limited to Treasury's “Do Not Pay” portal verification system, the GSA Excluded Parties and Debarment List, and the Department of Justice Drug Debarment Roster in connection with implementation of Section 5301 of the Anti-Drug Abuse Act of 1998;

6. Populating FCC forms, which include but are not limited to Forms 44 and 45, 159 series, 160 and 161, and 1064, and other financial and budgetary forms and related documents and records, which are used to carry out these various financial, accounting, and budgetary activities, functions, and purposes, and related telecommunications activities;

7. Providing the viewing function for images of auction loans that the FCC has made to customers, to provide them access to their loan payment history (retained for historical purposes); and

8. Storing the information that the Department of Justice (DOJ) exchanges with the FCC in connection with the implementation of Section 5301 of the Anti-Drug Abuse Act of 1988.⁷

⁷ This permits the FCC to perform the General Services Administration (GSA) Debarment List check as provided for in the Office of National Drug Control Policy plan for implementation of Section 5301 through use of information generated by DOJ. The FCC will only use the automated records obtained from DOJ to make an initial determination of whether an individual applicant is subject to a denial of all Federal benefits or FCC benefits imposed under Section 5301 of the Anti-Drug Abuse Act of 1988.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3). In each of these cases, however, the FCC will determine whether disclosure of the records is compatible with the purpose(s) for which the records were collected:

1. Public Access—After registering at the CORES Web site at: http://www.fcc.gov to obtain their FCC Registration Number (FRN) and a password, individuals can use the Commission's automated reporting tools of Electronic Form 159/ROSIE, Fee Filer, Pay Fees, and the Red Light Display System to conduct business with the FCC, including to access information, which includes but is not limited to Regulatory Fees, fines, forfeitures, penalties, Debt Collection Improvement Act and other administrative changes, and related payments and assessments, and to determine the amount(s) owed.

2. Drug Debarment List—Any report resulting from any matching program activities between a FCC applicant and an individual on the Department of Justice (DOJ) Drug Disbarment List (not including the DOJ ID Number) and any correspondence with the applicant regarding this match will be associated with the applicant's application, and thus, be made routinely available (with redactions for date of birth and Social Security Number) for public inspection as part of the FCC application file.

3. “Pay.gov” System—To disclose the name and address of individuals to the Department of the Treasury to facilitate the collection of any fees owed to the FCC when an individual chooses to pay online using the Treasury's Pay.gov system.

4. Audits and Oversight—To disclose information to auditors, officials of the Office of Inspector General, for the purpose of conducting financial or compliance audits.

5. Compliance with Welfare Reform Requirements—Names, Social Security Numbers, home addresses, dates of birth, dates of hire, quarterly earnings, employer identifying information, and state of hire of employees may be disclosed to the Office of Child Support Enforcement, Administration for Children and Families, Department of Health and Human Services for the purposes of locating individuals to establish paternity, establishing and modifying orders of child support, identifying sources of income, and for other child support enforcement actions as required by the Personal Responsibility and Work Opportunity Reconciliation Act.

6. Financial Obligations under the Debt Collection Acts—To other Federal agencies for the purpose of collecting and reporting on delinquent debts as authorized by the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items included, but not limited to income assessments required for taxation or other purposes to be disclosed to Federal (i.e., IRS), state, and local governments.

7. “Do Not Pay” System—To the Treasury Department, Bureau of Public Debt and its authorized contractors and representatives for compliance with collection laws and to prevent improper payment and for purposes of verifying payment eligibility using Treasury's “Do Not Pay” (DNP) system and effecting payments. Records may also be disclosed to Treasury pursuant to a DNP computer matching agreement between the FCC and Treasury for purposes authorized by 31 U.S.C. 3321, if the matching program requires data from this system of records. Additionally, records will be routinely disclosed to the Treasury and to other Federal agencies for the purpose of collecting and reporting on delinquent debts as authorized by the Debt Collection Improvement Act of 1996, as amended. Records may be disclosed to any Federal, state, or local agency to conduct an authorized computer matching program in compliance with the Privacy Act of 1974, as amended, to identify and locate individuals who are delinquent in their repayment of certain debts owed to the U.S. Government. Finally, records may be disclosed to the Treasury Department and its authorized representatives and the Department of Justice for purposes of reporting the results of debt collection or debt compromise to prepare necessary federal, state, or local income and tax reporting records and reports, e.g., IRS Form 1099.

8. Financial Obligations as required by the National Finance Center (USDA), et al.—To the National Finance Center (the FCC's authorized payroll office), the Department of the Treasury Debt Management Services, and/or a current employer for financial obligations that include, but are not limited to those that effect a salary, IRS tax refund, tax or other debt liabilities of State, Municipality or other government agencies and entities, or administrative offsets necessary to satisfy an indebtedness; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988, as appropriate, have been taken.

9. Adjudication and Litigation—To the Department of Justice (DOJ), in a proceeding before a court, or other administrative or adjudicative body before which the FCC is authorized to appear, when: (a) The FCC or any component thereof; (b) any employee of the FCC in his or her official capacity; (c) any employee of the FCC in his or her individual capacity where DOJ or the FCC has agreed to represent the employee; or (d) the United States is a party to litigation or has an interest in such litigation, and the use of such records by DOJ or the FCC is deemed by the FCC to be relevant and necessary to the litigation.

11. Law Enforcement and Investigation—To disclose pertinent information to the appropriate Federal, State, or local agencies, authorities, and officials responsible for investigating, prosecuting, enforcing, or implementing a statute, rule, regulation, or order, where the FCC becomes aware of an indication of a violation or potential violation of civil or criminal statute, law, regulation, or order.

12. Congressional Inquiries—To provide information to a congressional office from the record of an individual in response to an inquiry from that congressional office made at the request of that individual.

13. Government-wide Program Management and Oversight—To the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

14. Employment, Clearances, Licensing, Contract, Grant, or other Benefits Decisions by the Agency—To a Federal, State, local, foreign, tribal, or other public agency or authority maintaining civil, criminal, or other relevant enforcement records, or other pertinent records, or to another public authority or professional organization, if necessary to obtain information relevant to an investigation concerning the hiring or retention of an employee or other personnel action, the issuance or retention of a security clearance, the classifying of jobs, the letting of a contract, or the issuance or retention of a license, grant, or other benefit by the requesting agency, to the extent that the information is relevant and necessary to the requesting agency's decisions on the matter.

15. Employment, Clearances, Licensing, Contract, Grant, or other Benefits Decisions by Other than the Agency—To a Federal, State, local, foreign, tribal, or other public agency or authority of the fact that this system of records contains information relevant to the hiring or retention of an employee, the issuance or retention of a security clearance, the conducting of a suitability or security investigation of an individual, the classifying of jobs, the letting of a contract, or the issuance or retention of a license, grant, or other benefit by the requesting agency, to the extent that the information is relevant and necessary to the agency's decision on the matter. The other agency or licensing organization may then make a request supported by the written consent of the individual for the entire records if it so chooses. No disclosure will be made unless the information has been determined to be sufficiently reliable to support a referral to another office within the agency or to another Federal agency for criminal, civil, administrative, personnel, or regulatory action.

16. Labor Relations—To officials of labor organizations recognized under 5 U.S.C. Chapter 71 upon receipt of a formal request and in accord with the conditions of 5 U.S.C. 7114 when relevant and necessary to their duties of exclusive representation concerning personnel policies, practices, and matters affecting working condition.

17. Federal Labor Relations Authority—To disclose information to the Federal Labor Relations Authority when requested in connection with investigations of allegations of unfair labor practices or matters before the Federal Service Impasses Panel (FSIP).

18. Merit Systems Protection Board—To disclose information to officials of the Merit Systems Protection Board or the Office of the Special Counsel, when requested in connection with appeals, special studies of the civil service and other merit systems, review of the FCC rules and regulations, investigations of alleged or possible prohibited personnel practices, and such other functions, e.g., as promulgated in 5 U.S.C. 1205 and 1206, or as may be authorized by law.

19. Equal Employment Opportunity Commission (EEOC)—To disclose information to the EEOC when requested in connection with investigations into alleged or possible discrimination practices in the Federal sector, compliance by Federal agencies with the Uniform Guidelines on Employee Selection Procedures or other functions vested in the Commission and to otherwise ensure compliance with the provisions of 5 U.S.C. 7201.

20. Non-Federal Personnel—To disclose information to contractors performing or working on a contract for the Federal Government.

21. Statistical/Analytical Studies—To provide to Congress and the Office of Management and Budget with summary descriptive statistics and analytical studies in support of the financial and budgetary functions for which the records are collected and maintained, or for related FCC studies and reports. While published studies do not contain individual identifiers, in some instances the selection of elements of data included in the study may be structured in such a way as to make the data individually identifiable by inference.

22. Breach Notifications—To appropriate agencies, entities, and individuals, when: (1) The FCC suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and individuals is reasonably necessary to assist in connection with the Commission's efforts to respond to the suspected or confirmed compromise and to prevent, minimize, or remedy such harm.

DISCLOSURE TO CONSUMER REPORTING AGENCIES:

Under 5 U.S.C. 552a(b)(12) of the Privacy Act, the Department of Treasury may disclose to a consumer reporting agency information regarding a claim by the Commission which is determined to be valid and overdue as follows: name, address, SSN or ITIN, and other information necessary to establish the identity of the individual or organization responsible for the claim:

1. The amount, status, and history of the claim; and

2. The program under which the claim arose.

The Commission may disclose the information specified in this paragraph under 5 U.S.C. 552a(b)(12) and the procedures contained in subsection 31 U.S.C. 3711(e). A consumer reporting agency to which these disclosures may be made is defined at 31 U.S.C. 3701(a)(3).

POLICIES AND PRACTICES FOR STORING, RETRIEVING, ACCESSING, RETAINING, AND DISPOSING OF RECORDS IN THE SYSTEM:

STORAGE:

Information in this system is maintained as follows:

1. Electronic data, records, and files are housed in the FCC's computer network databases and/or at a FCC authorized contractor;

2. The DOJ maintains the Drug Debarment data at its facilities and transfers the Drug Debarment data files to the FCC under the terms of the matching agreement. These files are immediately discarded by the FCC after being loaded into the secure database on the FCC's computer network; and

3. Paper documents, including printouts and other related materials, records, and files are stored in the FO office suite and at a FCC authorized contractors.

RETRIEVABILITY:

1. Retrieval of records in the FCC's financial and budgetary (electronic) information systems, subsystems, and databases includes, but is not limited to the individual's name and/or type of transaction, call sign, processing number, SSN, ITIN, FRN, vendor code, fee control number, payment ID number, and/or sequential number.

2. Paper documents, records, and files can be similarly retrieved (manually) by these data markers.

3. Retrieval of records in the Drug Debarment database is as follows:

(a) An initial search is done using the name and ITIN or name and zip code between the Drug Debarment database and the CORES registration databases (i.e., from the database with the name of an application on file with the FCC, which the FCC will then review).

(b) A subsequent search is done if an individual with a preliminary match file an FCC application or requests services from the FCC. The FCC may obtain additional data elements from DOJ, such as address, zip code, and, if required by the FCC application, date of birth, in order to determine if there is an actual match.

(c) An additional file search, as required, may also include the FCC confirmation report, identifying information obtained from the DOJ debarment entry and any correspondence with the applicant attached to the individual's application.

SAFEGUARDS:

1. The FCC's IT privacy safeguards include a comprehensive and dynamic set of safety and security protocols that are designed to meet all Federal IT privacy standards, including those required by the National Institute of Standard and Technology (NIST) and the Federal Information Security Act of 2002 (FISMA). The protocols cover all electronic records, files, and data, including those that are housed in the FCC's computer network databases; and those information system databases that are housed at the FCC's authorized contractor(s). The DOJ's Drug Debarment Databases, which are co-located with and secured under these same safety and security standards as individual registration records, also comply with NIST and FISMA requirements. The drug debarment data files are immediately discarded by the FCC after being loaded into the secure database. In addition, the FCC discards extraneous information, unless it is required by the FCC to determine a data match, or for other requirements.

2. There are a limited number of paper documents, files, and records, which are stored in file cabinets in the FO office. All access points for the FO office suite are monitored. These cabinets are locked when not in use and/or at the end of the business day.

3. Furthermore, as part of the FCC's privacy safeguards, only authorized FCC supervisors, employees, and contractors (including sole proprietor contractors) may have access to the electronic data and the paper document files.

RETENTION AND DISPOSAL:

1. The financial records are retained at the FCC for six to seven years following the end of the current fiscal year:

(a) Financial records are stored at the FCC's facility for two years; then

(b) Financial records are transferred for to an authorized FCC contractor for off-site storage for the duration of the required records retention schedule period, i.e., four years and three months.

2. The records are then transferred to the National Archives and Records Administration's (NARA) Federal Records Center and destroyed by shredding when 6 years and 3 months old. Electronic records are destroyed physically (electronic storage media) or by electronic erasure. Paper records are destroyed by shredding.

3. (a) The match reports from the Drug Debarment database list are retained by the FCC for only as long as it is necessary to obtain the debarment entry information and corresponding application for manual confirmation of the match. Thereafter, the paper match reports are shredded. The electronic data are destroyed by electronic erasure.

(b) However, periodically, a match report will be randomly retained for a period of an additional 90 to 120 days to provide a quality check of the verification process. Where the verification process establishes that a match does not indicate that the applicant has been denied Federal benefits under section 5301, the debarment entry information used in that determination is retained by the FCC for 30 days after the application has cleared the debarment check.

(c) The debarment entry information relating to match reports that is retained for quality control purposes is retained until that quality check is completed. Where a match is confirmed by the manual verification process, the debarment entry information is retained for a period of at least 90 days after the date of the letter referred to above. If the application contests the determination that a section 5301 denial of Federal benefits bars a grant of the application, the debarment entry information is retained until such time as the FCC's action on the application is no longer subject to review in any court.

SYSTEM MANAGER(S) AND ADDRESS:

Financial Operations (FO), Office of Managing Director (OMD), Federal Communications Commission (FCC), 445 12th Street SW., Room 1-A663, Washington, DC 20554.

NOTIFICATION PROCEDURE:

Privacy Manager, Information Technology (IT), Federal Communications Commission (FCC), 445 12th Street SW., Washington, DC 20554, or Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (5 CFR part 0, subpart E).

RECORD ACCESS PROCEDURES:

Individuals wishing to request an amendment of records about them should follow the Notification Procedure above.

CONTESTING RECORD PROCEDURE:

Individuals wishing to contest information pertaining to him or her in the system of records should follow the Notification Procedure above.

RECORD SOURCE CATEGORIES:

The sources for the information include, but are not limited to, FCC employees (including interns), contract employees, and individuals who register to do business with the FCC, and the information obtained from the Federal Drug Debarment List database(s). This information is used to administer, manage, oversee, and perform the FCC's financial and budgetary operations, programs, services, and transactions, and related telecommunications activities as required by Federal statutes and regulations.

EXEMPTIONS CLAIMED FOR THE SYSTEM:

None.

Federal Communications Commission.
Marlene H. Dortch,
Secretary.

[FR Doc. 2016-24068 Filed 10-5-16; 8:45 am]

BILLING CODE 6712-01-P